DEPARTMENT OF HEALTH AND HUMAN SERVICES

National Institutes of Health

National Institute of Mental Health; Notice of Meeting

Pursuant to section 10(a) of the Federal Advisory Committee Act, as amended (5 U.S.C. Appendix 2), notice is hereby given of a meeting of the Interagency Autism Coordinating Committee.

The meeting will be open to the public, with attendance limited to space available. Individuals who plan to attend and need special assistance, such as sign language interpretation or other reasonable accommodations, should inform the Contact Person listed below in advance of the meeting.

Name of Committee: Interagency Autism Coordinating Committee (IACC).

Date: July 15, 2008.

Time: 9 a.m. to 4 p.m.

Agenda: Review strategic planning workgroup comments on draft plan; discuss and approve draft strategic plan for autism spectrum disorder (ASD) research, summary of advances in ASD research, and process for implementation of strategic plan, report from Services Subcommittee; scientific presentation.

Place: Natcher Conference Center, National Institutes of Health, Rooms E1 and E2, 45 Center Drive, Bethesda, MD.

Contact Person: Tanya Pryor, Interagency Autism Coordinating Committee, National Institute of Mental Health, NIH, 6001 Executive Boulevard, Room 6187, MSC 9669, Bethesda, MD 20892-9669, (301) 443-7153, pryort@mail.nih.gov.

Any member of the public interested in presenting oral comments to the Committee should notify the Contact Person listed on this notice at least 10 days in advance of the meeting. Interested individuals and representatives of organizations should submit a letter of intent, a brief description of the organization represented, and a written copy of their oral presentation in advance of the meeting. Only one representative of an organization will be allowed to present oral comments and presentations will be limited to a maximum of five minutes. Both printed and electronic copies are requested for the record. In addition, any interested person may file written comments with the Committee by forwarding their statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit. All visitors should be prepared to have their personal belongings inspected and to go through metal detection inspection. You are strongly encouraged to take public transportation to the NIH campus as there are very few visitor parking spaces available. If you must drive, short-term metered parking may be available near the Natcher Conference Center in Lot B. Natcher is a 5-minute walk from the Medical Center Station on the Red Line of the Metro.

A registration link and information about the about the IACC meeting will be available on the IACC Web site: http://www.nimh.nih.gov/research-funding/scientific-meetings/recurring-meetings/iacc/events/index.shtml.

(Catalogue of Federal Domestic Assistance Program Nos. 93.242, Mental Health Research Grants; 93.281, Scientist Development Award, Scientist Development Award for Clinicians, and Research Scientist Award; 93.282, Mental Health National Research Service Awards for Research Training, National Institutes of Health, HHS)

Dated: June 18, 2008.
Jennifer Spaeth,
Director, Office of Federal Advisory Committee Policy.

[FR Doc. E8-14265 Filed 6-23-08; 8:45 am]

BILLING CODE 4140-01-P